COMMITTEE FOR PURCHASE FROM PEOPLE WHO ARE BLIND OR SEVERELY DISABLED

Procurement List: Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities and to delete products previously furnished by such agencies.

Comments Must Be Received On Or Before: 7/26/2010.

ADDRESSES: Committee for Purchase From People Who Are Blind or Severely Disabled, Jefferson Plaza 2, Suite 10800, 1421 Jefferson Davis Highway, Arlington, Virginia, 22202-3259.

For Further Information or To Submit Comments Contact: Patricia Briscoe, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 7510-01-386-1609—Pen, Correction

NSN: 7520-00-NIB-2075—Markers, Paint, Oil Based, Med Pt, White 6/PG

NSN: 7520-00-NIB-2076—Markers, Paint, Med Pt, Oil Based, Yellow 6/PG

NSN: 7520-00-NIB-2078—Markers, Paint, Med Pt, Oil Based, Rubber Grip, Green

NSN: 7520-00-NIB-2079—Markers, Paint, Med Pt, Oil Based, Black

NSN: 7520-01-207-4159—Marker, Paint, Oil Based, Fine Pt, White, 1 DZ

NSN: 7520-01-207-4167—Markers, Paint, Oil Based, Med Pt, Asst Color 6/ST

NSN: 7520-01-207-4168—Marker, Paint, Oil Based, Med Pt, Asst Colors 12/ST

COVERAGE: A-List for 100% of the Total Government Requirement as aggregated by the General Services Administration.

NSN: 7520-00-NIB-2077—Markers, Paint, Oil Based, Med Pt, Rubber Grip, Blue

NSN: 7520-00-NIB-2080—Markers, Paint, Med Pt, Oil Based, Red, 6/PG

COVERAGE: B-List for 100% of the Broad Government Requirement as aggregated by the General Services Administration.

NPA: Alphapointe Association for the Blind, Kansas City, MO

Contracting Activity: Federal Acquisition Service, GSA/FSS OFC SUP CTR—Paper Products, New York, NY

NSN: 7920-00-NIB-0508—WetTask Wiping System—Bucket

NSN: 7920-00-NIB-0510—WetTask Wiping System—Canister

NPA: East Texas Lighthouse for the Blind, Tyler, TX

Contracting Activity: Department of Veterans Affairs, NAC, HINES, IL

COVERAGE: C-List for 100% of the VA's requirement as aggregated by the Department of Veterans Affairs National Acquisition Center, Hines, IL.

NSN: 8540-00-NIB-0053—Hard Roll Paper Towel, Non-Perforated, 1-ply, 8″ x 600′ rolls, White

NSN: 8540-00-NIB-0054—Hard Roll Paper Towel, Non-Perforated, 1-ply, 8″ x 600′ Natural

NSN: 8540-00-NIB-0055—Hard Roll Paper Towel, Non-Perforated, 1-ply, 8″ x 800′ rolls, white

NSN: 8540-00-NIB-0056—Hard Roll Paper Towel, Non-Perforated, 1-ply, 8″ x 800′ rolls, natural

NSN: 8540-00-NIB-0057—Hard Roll Paper Towel, Non-Perforated, 1-ply, 8″ x 350′ rolls, white

NSN: 8540-00-NIB-0061—Jumbo Roll Toilet Tissue, 1 ply, 3.7″ x 2000′

NSN: 8540-00-NIB-0063—Jumbo Roll Toilet Tissue, 2 ply, 3.7″ x 1000′

NSN: 8540-00-NIB-0007—Jumbo Roll Toilet Tissue, 2 ply, 3.7″ x 2000′, 12″ dia. Roll

NSN: 8540-00-NIB-0064—Center-Pull Paper Towel, 2-ply, Perforated, 8.25 in x 12 in sheets, 600, White

NPA: Outlook-Nebraska, Incorporated, Omaha, NE

Contracting Activity: Federal Acquisition Service, GSA/FSS OFC SUP ctr—Paper Products, New York, NY

COVERAGE: A-List for the Total Government Requirement as aggregated by the General Services Administration.

NSN: 7510-00-NIB-1792—HP, 53 A & 53 X compatible

NSN: 7510-00-NIB-1794—HP 12A compatible

NSN: 7510-00-NIB-1795—HP 13A & 13X compatible

NSN: 7510-00-NIB-1800—HP 42A and 42X compatible

NSN: 7510-00-NIB-1801—HP 49A compatible

NSN: 7510-00-NIB-1802—HP 49X compatible

COVERAGE: A-List for the Total Government Requirement as aggregated by the General Services Administration.

NSN: 7510-00-NIB-1793—HP, 10A compatible

NSN: 7510-00-NIB-1796—HP 39A compatible

NSN: 7510-00-NIB-1797—HP 96A compatible

NSN: 7510-00-NIB-1798—HP 51A & 51X compatible

NSN: 7510-00-NIB-1799—HP 43X compatible

COVERAGE: B-List for the Broad Government Requirement as aggregated by the General Services Administration.

NPA: Alabama Industries for the Blind, Talladega, AL

Contracting Activity: Federal Acquisition Service, GSA/FSS OFC SUP CTR—Paper Products, New York, NY

Kit, Pre-Cut Fabric

NSN: 8405-00-FAB-0201—Man's, S/S, Air Force Shade 1550, Size 13½

NSN: 8405-00-FAB-0202—Man's, S/S, Air Force Shade 1550, Size 14

NSN: 8405-00-FAB-0203—Man's, S/S, Air Force Shade 1550, Size 14½

NSN: 8405-00-FAB-0204—Man's, S/S, Air Force Shade 1550, Size 15

NSN: 8405-00-FAB-0212—Man's, S/S, Air Force Shade 1550, Size 15½

NSN: 8405-00-FAB-0252—Man's, S/S, Air Force Shade 1550, Size 16

NSN: 8405-00-FAB-0253—Man's, S/S, Air Force Shade 1550, Size 16½

NSN: 8405-00-FAB-0254—Man's, S/S, Air Force Shade 1550, Size 17

NSN: 8405-00-FAB-0255—Man's, S/S, Air Force Shade 1550, Size 17½

NSN: 8405-00-FAB-0256—Man's, S/S, Air Force Shade 1550, Size 18

NSN: 8405-00-FAB-0257—Man's, S/S, Air Force Shade 1550, Size 18½

NSN: 8405-00-FAB-0258—Man's, S/S, Air Force Shade 1550, Size 19

NSN: 8405-00-FAB-0278—Man's, S/S, Air Force Shade 1550, Size 20

NSN: 8410-00-FAB-8362—Woman's, S/S, Air Force Shade 1550, Size 2

NSN: 8410-00-FAB-8361—Woman's, S/S, Air Force Shade 1550, Size 4

NSN: 8410-00-FAB-8360—Woman's, S/S, Air Force Shade 1550, Size 6

NSN: 8410-00-FAB-8359—Woman's, S/S, Air Force Shade 1550, Size 8

NSN: 8410-00-FAB-8358—Woman's, S/S, Air Force Shade 1550, Size 10

NSN: 8410-00-FAB-8357—Woman's, S/S, Air Force Shade 1550, Size 12

NSN: 8410-00-FAB-8356—Woman's, S/S, Air Force Shade 1550, Size 14

NSN: 8410-00-FAB-8355—Woman's, S/S, Air Force Shade 1550, Size 16

NSN: 8410-00-FAB-8354—Woman's, S/S, Air Force Shade 1550, Size 18

NSN: 8410-00-FAB-8353—Woman's, S/S, Air Force Shade 1550, Size 20

NSN: 8410-00-FAB-8395—Women's, L/S, Air Force Shade 1550, Size 4S

NSN: 8410-00-FAB-8396—Women's, L/S, Air Force Shade 1550, Size 4R

NSN: 8410-00-FAB-8398—Women's, L/S, Air Force Shade 1550, Size 6S

NSN: 8410-00-FAB-8399—Women's, L/S, Air Force Shade 1550, Size 6R

NSN: 8410-00-FAB-8409—Women's, L/S, Air Force Shade 1550, Size 6L

NSN: 8410-00-FAB-8411—Women's, L/S, Air Force Shade 1550, Size 8R

NSN: 8410-00-FAB-8412—Women's, L/S, Air Force Shade 1550, Size 8L

NSN: 8410-00-FAB-8413—Women's, L/S, Air Force Shade 1550, Size 10S

NSN: 8410-00-FAB-8414—Women's, L/S, Air Force Shade 1550, Size 10R

NSN: 8410-00-FAB-8415—Women's, L/S, Air Force Shade 1550, Size 10L

NSN: 8410-00-FAB-8416—Women's, L/S, Air Force Shade 1550, Size 12S

NSN: 8410-00-FAB-8417—Women's, L/S, Air Force Shade 1550, Size 12R

NSN: 8410-00-FAB-8418—Women's, L/S, Air Force Shade 1550, Size 12L

NSN: 8410-00-FAB-8420—Women's, L/S, Air Force Shade 1550, Size 14R

NSN: 8410-00-FAB-8421—Women's, L/S, Air Force Shade 1550, Size 14L

NSN: 8410-00-FAB-8423—Women's, L/S, Air Force Shade 1550, Size 16R

NSN: 8410-00-FAB-8424—Women's, L/S, Air Force Shade 1550, Size 16L

NSN: 8410-00-FAB-8426—Women's, L/S, Air Force Shade 1550, Size 18R

NPA: Raleigh Lions Clinic for the Blind, Inc., Raleigh, NC

NSN: 8405-00-COV-4602—US Navy Coveralls, Blue, 34-XS

NSN: 8405-00-COV-4607—US Navy Coveralls, Blue, 36-XS

NSN: 8405-00-COV-3482—US Navy Coveralls, Blue, 36-S

NSN: 8405-00-COV-3483—US Navy Coveralls, Blue, 36-R

NSN: 8405-00-COV-4609—US Navy Coveralls, Blue, 38-XS

NSN: 8405-00-COV-3484—US Navy Coveralls, Blue, 38-S

NSN: 8405-00-COV-3485—US Navy Coveralls, Blue, 38-R

NSN: 8405-00-COV-3486—US Navy Coveralls, Blue, 38-L

NSN: 8405-00-COV-4625—US Navy Coveralls, Blue, 38-XL

NSN: 8405-00-COV-9497—US Navy Coveralls, Blue, 40-XS

NSN: 8405-00-COV-3487—US Navy Coveralls, Blue, 40-S

NSN: 8405-00-COV-3488—US Navy Coveralls, Blue, 40-R

NSN: 8405-00-COV-3489—US Navy Coveralls, Blue, 40-L

NSN: 8405-00-COV-4667—US Navy Coveralls, Blue, 40-XL

NSN: 8405-00-COV-3490—US Navy Coveralls, Blue, 42-S

NSN: 8405-00-COV-3491—US Navy Coveralls, Blue, 42-R

NSN: 8405-00-COV-3492—US Navy Coveralls, Blue, 42-L

NSN: 8405-00-COV-1553—US Navy Coveralls, Blue, 42-XL

NSN: 8405-00-COV-3493—US Navy Coveralls, Blue, 44-S

NSN: 8405-00-COV-3494—US Navy Coveralls, Blue, 44-R

NSN: 8405-00-COV-5582—US Navy Coveralls, Blue, 44-L

NSN: 8405-00-COV-1557—US Navy Coveralls, Blue, 44-XL

NSN: 8405-00-COV-0572—US Navy Coveralls, Blue, 44-2XL

NSN: 8405-00-COV-3495—US Navy Coveralls, Blue, 46-S

NSN: 8405-00-COV-3496—US Navy Coveralls, Blue, 46-R

NSN: 8405-00-COV-3497—US Navy Coveralls, Blue, 46-L

NSN: 8405-00-COV-1560—US Navy Coveralls, Blue, 46-XL

NSN: 8405-00-COV-0647—US Navy Coveralls, Blue, 46-2XL

NSN: 8405-00-COV-3498—US Navy Coveralls, Blue, 48-R

NSN: 8405-00-COV-3499—US Navy Coveralls, Blue, 48-L

NSN: 8405-00-COV-1567—US Navy Coveralls, Blue, 48-XL

NSN: 8405-00-COV-0650—US Navy Coveralls, Blue, 48-2XL

NSN: 8405-00-COV-0354—US Navy Coveralls, Blue, 50-R

NSN: 8405-00-COV-0636—US Navy Coveralls, Blue, 50-L

NSN: 8405-00-COV-1569—US Navy Coveralls, Blue, 50-XL

NSN: 8405-00-COV-0649—US Navy Coveralls, Blue, 50-2XL

NSN: 8405-00-COV-0641—US Navy Coveralls, Blue, 52-R

NSN: 8405-00-COV-0639—US Navy Coveralls, Blue, 52-L

NSN: 8405-00-COV-1571—US Navy Coveralls, Blue, 52-XL

NSN: 8405-00-COV-0651—US Navy Coveralls, Blue, 52-2XL

NSN: 8405-00-COV-4670—US Navy Coveralls, Blue, 54-L

NSN: 8405-00-COV-4672—US Navy Coveralls, Blue, 54-XL

NSN: 8405-00-COV-0652—US Navy Coveralls, Blue, 54-2XL

NSN: 8405-00-COV-9127—US Navy Coveralls, Blue, 56-R

NSN: 8405-00-COV-4009—US Navy Coveralls, Green, 36-S

NSN: 8405-00-COV-4011—US Navy Coveralls, Green, 36-R

NSN: 8405-00-COV-4017—US Navy Coveralls, Green, 38-S

NSN: 8405-00-COV-4022—US Navy Coveralls, Green, 38-R

NSN: 8405-00-COV-4032—US Navy Coveralls, Green, 38-L

NSN: 8405-00-COV-4038—US Navy Coveralls, Green, 40-S

NSN: 8405-00-COV-4039—US Navy Coveralls, Green, 40-R

NSN: 8405-00-COV-4058—US Navy Coveralls, Green, 40-L

NSN: 8405-00-COV-4063—US Navy Coveralls, Green, 42-S

NSN: 8405-00-COV-4143—US Navy Coveralls, Green, 42-R

NSN: 8405-00-COV-4294—US Navy Coveralls, Green, 42-L

NSN: 8405-00-COV-4298—US Navy Coveralls, Green, 44-S

NSN: 8405-00-COV-4320—US Navy Coveralls, Green, 44-R

NSN: 8405-00-COV-4346—US Navy Coveralls, Green, 44-L

NSN: 8405-00-COV-4361—US Navy Coveralls, Green, 46-S

NSN: 8405-00-COV-4375—US Navy Coveralls, Green, 46-R

NSN: 8405-00-COV-4439—US Navy Coveralls, Green, 46-L

NSN: 8405-00-COV-4679—US Navy Coveralls, Green, 48-R

NSN: 8405-00-COV-4906—US Navy Coveralls, Green, 48-L

NSN: 8405-00-COV-4911—US Navy Coveralls, Green, 50-R

NSN: 8405-00-COV-4926—US Navy Coveralls, Green, 50-L

NSN: 8405-00-COV-4930—US Navy Coveralls, Green, 52-R

NSN: 8405-00-COV-4960—US Navy Coveralls, Green, 52-L

NSN: 8415-00-FAB-6409—GEN III ECWCS, Trouser, UCamo, XL-XL

NSN: 8415-00-FAB-6410—GEN III ECWCS, Trouser, UCamo, XS-XS

NSN: 8415-00-FAB-6411—GEN III ECWCS, Trouser, UCamo, XS-S

NSN: 8415-00-FAB-6412—GEN III ECWCS, Trouser, UCamo, XS-R

NSN: 8415-00-FAB-6413—GEN III ECWCS, Trouser, UCamo, XS-L

NSN: 8415-00-FAB-6414—GEN III ECWCS, Trouser, UCamo, XS-XL

NSN: 8415-00-FAB-6416—GEN III ECWCS, Trouser, UCamo, S-XS

NSN: 8415-00-FAB-6417—GEN III ECWCS, Trouser, UCamo, S-S

NSN: 8415-00-FAB-6418—GEN III ECWCS, Trouser, UCamo, S-R

NSN: 8415-00-FAB-6419—GEN III ECWCS, Trouser, UCamo, S-L

NSN: 8415-00-FAB-6424—GEN III ECWCS, Trouser, UCamo, S-XL

NSN: 8415-00-FAB-6425—GEN III ECWCS, Trouser, UCamo, M-XS

NSN: 8415-00-FAB-6426—GEN III ECWCS, Trouser, UCamo, M-S

NSN: 8415-00-FAB-6427—GEN III ECWCS, Trouser, UCamo, M-R

NSN: 8415-00-FAB-6428—GEN III ECWCS, Trouser, UCamo, M-L

NSN: 8415-00-FAB-6429—GEN III ECWCS, Trouser, UCamo, M-XL

NSN: 8415-00-FAB-6430—GEN III ECWCS, Trouser, UCamo, L-S

NSN: 8415-00-FAB-6436—GEN III ECWCS, Trouser, UCamo, L-XS

NSN: 8415-00-FAB-6437—GEN III ECWCS, Trouser, UCamo, L-R

NSN: 8415-00-FAB-6441—GEN III ECWCS, Trouser, UCamo, L-L

NSN: 8415-00-FAB-6442—GEN III ECWCS, Trouser, UCamo, L-XL

NSN: 8415-00-FAB-6443—GEN III ECWCS, Trouser, UCamo, XL-XS

NSN: 8415-00-FAB-6445—GEN III ECWCS, Trouser, UCamo, XL-S

NSN: 8415-00-FAB-6446—GEN III ECWCS, Trouser, UCamo, XL-R

NSN: 8415-00-FAB-6448—GEN III ECWCS, Trouser, UCamo, XL-L

NSN: 8415-00-FAB-6529—GEN III ECWCS, Trouser, UCamo, 2XL-2XL

NSN: 8415-00-FAB-6537—GEN III ECWCS, Trouser, UCamo, 2XL-L

NSN: 8415-00-FAB-6536—GEN III ECWCS, Trouser, UCamo, 2XL-R

NSN: 8415-00-FAB-6535—GEN III ECWCS, Trouser, UCamo, 2XL-S

NSN: 8415-00-FAB-6538—GEN III ECWCS, Trouser, UCamo, 2XL-XL

NSN: 8415-00-FAB-6534—GEN III ECWCS, Trouser, UCamo, 2XL-XS

NSN: 8415-00-FAB-6533—GEN III ECWCS, Trouser, UCamo, L-2XL

NSN: 8415-00-FAB-6530—GEN III ECWCS, Trouser, UCamo, M-2XL

NSN: 8415-00-FAB-6532—GEN III ECWCS, Trouser, UCamo, S-2XL

NSN: 8415-00-FAB-6531—GEN III ECWCS, Trouser, UCamo, XL-2XL

NSN: 8415-00-FAB-6528—GEN III ECWCS, Trouser, UCamo, SX-2XL

NPA: Winston-Salem Industries for the Blind, Winston-Salem, NC

NSN: 8405-00-NIB-0307—S/S, Army White, Athletic, 15.5R-A

NSN: 8405-00-NIB-0308—S/S, Army White, Athletic, 16R-A

NSN: 8405-00-NIB-0309—S/S, Army White, Athletic, 16L-A

NSN: 8405-00-NIB-0310—S/S, Army White, Athletic, 16.5R-A

NSN: 8405-00-NIB-0311—S/S, Army White, Athletic, 16.5L-A

NSN: 8405-00-NIB-0312—S/S, Army White, Athletic, 17R-A

NSN: 8405-00-NIB-0313—S/S, Army White, Athletic, 17L-A

NSN: 8405-00-NIB-0314—S/S, Army White, Athletic, 17.5R-A

NSN: 8405-00-NIB-0315—S/S, Army White, Athletic, 17.5L-A

NSN: 8405-00-NIB-0316—S/S, Army White, Athletic, 18R-A

NSN: 8405-00-NIB-0317—S/S, Army White, Athletic, 18L-A

NSN: 8405-00-NIB-0318—S/S, Army White, Athletic, 18.5L-A

NSN: 8405-00-NIB-0319—S/S, Army White, Athletic, 19L-A

NSN: 8405-00-NIB-0320—S/S, Army White, Classic, 13.5R-C

NSN: 8405-00-NIB-0321—S/S, Army White, Classic, 14R-C

NSN: 8405-00-NIB-0322—S/S, Army White, Classic, 14.5R-C

NSN: 8405-00-NIB-0323—S/S, Army White, Classic, 15R-C

NSN: 8405-00-NIB-0324—S/S, Army White, Classic, 15.5R-C

NSN: 8405-00-NIB-0325—S/S, Army White, Classic, 16R-C

NSN: 8405-00-NIB-0326—S/S, Army White, Classic, 16L-C

NSN: 8405-00-NIB-0327—S/S, Army White, Classic, 16.5R-C

NSN: 8405-00-NIB-0328—S/S, Army White, Classic, 16.5L-C

NSN: 8405-00-NIB-0329—S/S, Army White, Classic, 17R-C

NSN: 8405-00-NIB-0330—S/S, Army White, Classic, 17L-C

NSN: 8405-00-NIB-0331—S/S, Army White, Classic, 17.5R-C

NSN: 8405-00-NIB-0332—S/S, Army White, Classic, 17.5L-C

NSN: 8405-00-NIB-0333—S/S, Army White, Classic, 18R-C

NSN: 8405-00-NIB-0334—S/S, Army White, Classic, 18L-C

NSN: 8405-00-NIB-0335—S/S, Army White, Classic, 18.5R-C

NSN: 8405-00-NIB-0336—S/S, Army White, Classic, 18.5L-C

NSN: 8405-00-NIB-0337—S/S, Army White, Classic, 19R-C

NSN: 8405-00-NIB-0338—S/S, Army White, Classic, 19L-C

NSN: 8405-00-NIB-0339—L/S, Army White, Athletic, 15.5x32/33-A

NSN: 8405-00-NIB-0340—L/S, Army White, Athletic, 15.5x34/35-A

NSN: 8405-00-NIB-0341—L/S, Army White, Athletic, 16x30/31-A

NSN: 8405-00-NIB-0342—L/S, Army White, Athletic, 16x32/33-A

NSN: 8405-00-NIB-0343—L/S, Army White, Athletic, 16x34/35-A

NSN: 8405-00-NIB-0344—L/S, Army White, Athletic, 16.5x32/33-A

NSN: 8405-00-NIB-0345—L/S, Army White, Athletic, 16.5x34/35-A

NSN: 8405-00-NIB-0346—L/S, Army White, Athletic, 16.5x36/37-A

NSN: 8405-00-NIB-0347—L/S, Army White, Athletic, 17x32/33-A

NSN: 8405-00-NIB-0348—L/S, Army White, Athletic, 17x34/35-A

NSN: 8405-00-NIB-0349—L/S, Army White, Athletic, 17x36/37-A

NSN: 8405-00-NIB-0350—L/S, Army White, Athletic, 17x38-A

NSN: 8405-00-NIB-0351—L/S, Army White, Athletic, 17.5x32/33-A

NSN: 8405-00-NIB-0352—L/S, Army White, Athletic, 17.5x34/35-A

NSN: 8405-00-NIB-0353—L/S, Army White, Athletic, 17.5x36/37-A

NSN: 8405-00-NIB-0354—L/S, Army White, Athletic, 18x32/33-A

NSN: 8405-00-NIB-0355—L/S, Army White, Athletic, 18x34/35-A

NSN: 8405-00-NIB-0356—L/S, Army White, Athletic, 18x36/37-A

NSN: 8405-00-NIB-0357—L/S, Army White, Athletic, 18x38-A

NSN: 8405-00-NIB-0358—L/S, Army White, Athletic, 18.5x32/33-A

NSN: 8405-00-NIB-0359—L/S, Army White, Athletic, 18.5x34/35-A

NSN: 8405-00-NIB-0360—L/S, Army White, Athletic, 18.5x36/37-A

NSN: 8405-00-NIB-0361—L/S, Army White, Athletic, 18.5x38-A

NSN: 8405-00-NIB-0362—L/S, Army White, Athletic, 19x34/35-A

NSN: 8405-00-NIB-0363—L/S, Army White, Athletic, 19x36/37-A

NSN: 8405-00-NIB-0364—L/S, Army White, Athletic, 19x38-A

NSN: 8405-00-NIB-0365—L/S, Army White, Athletic, 19.5x34/35-A

NSN: 8405-00-NIB-0366—L/S, Army White, Athletic, 19.5x36/37-A

NSN: 8405-00-NIB-0367—L/S, Army White, Athletic, 20x34/35-A

NSN: 8405-00-NIB-0368—L/S, Army White, Athletic, 20x36/37-A

NSN: 8405-00-NIB-0369—L/S, Army White, Classic, 13.5x32/33-C

NSN: 8405-00-NIB-0370—L/S, Army White, Classic, 14x29-C

NSN: 8405-00-NIB-0371—L/S, Army White, Classic, 14x30/31-C

NSN: 8405-00-NIB-0372—L/S, Army White, Classic, 14x32/33-C

NSN: 8405-00-NIB-0373—L/S, Army White, Classic, 14.5x30/31-C

NSN: 8405-00-NIB-0374—L/S, Army White, Classic, 14.5x32/33-C

NSN: 8405-00-NIB-0375—L/S, Army White, Classic, 15x29-C

NSN: 8405-00-NIB-0376—L/S, Army White, Classic, 15x30/31-C

NSN: 8405-00-NIB-0377—L/S, Army White, Classic, 15x32/33-C

NSN: 8405-00-NIB-0378—L/S, Army White, Classic, 15x34/35-C

NSN: 8405-00-NIB-0379—L/S, Army White, Classic, 15.5x30/31-C

NSN: 8405-00-NIB-0380—L/S, Army White, Classic, 15.5x32/33-C

NSN: 8405-00-NIB-0381—L/S, Army White, Classic, 15.5x34/35-C

NSN: 8405-00-NIB-0382—L/S, Army White, Classic, 15.5x36/37-C

NSN: 8405-00-NIB-0383—L/S, Army White, Classic, 16x29-C

NSN: 8405-00-NIB-0384—L/S, Army White, Classic, 16x30/31-C

NSN: 8405-00-NIB-0385—L/S, Army White, Classic, 16x32/33-C

NSN: 8405-00-NIB-0386—L/S, Army White, Classic, 16x34/35-C

NSN: 8405-00-NIB-0387—L/S, Army White, Classic, 16x36/37-C

NSN: 8405-00-NIB-0388—L/S, Army White, Classic, 16x38-C

NSN: 8405-00-NIB-0389—L/S, Army White, Classic, 16.5x30/31-C

NSN: 8405-00-NIB-0390—L/S, Army White, Classic, 16.5x32/33-C

NSN: 8405-00-NIB-0391—L/S, Army White, Classic, 16.5x34/35-C

NSN: 8405-00-NIB-0392—L/S, Army White, Classic, 16.5x36/37-C

NSN: 8405-00-NIB-0393—L/S, Army White, Classic, 16.5x38-C

NSN: 8405-00-NIB-0394—L/S, Army White, Classic, 17x32/33-C

NSN: 8405-00-NIB-0395—L/S, Army White, Classic, 17x34/35-C

NSN: 8405-00-NIB-0396—L/S, Army White, Classic, 17x36/37-C

NSN: 8405-00-NIB-0397—L/S, Army White, Classic, 17.5x32/33-C

NSN: 8405-00-NIB-0398—L/S, Army White, Classic, 17.5x34/35-C

NSN: 8405-00-NIB-0399—L/S, Army White, Classic, 17.5x36/37-C

NSN: 8405-00-NIB-0400—L/S, Army White, Classic, 18x32/33-C

NSN: 8405-00-NIB-0401—L/S, Army White, Classic, 18x34/35-C

NSN: 8405-00-NIB-0402—L/S, Army White, Classic, 18x36/37-C

NSN: 8405-00-NIB-0403—L/S, Army White, Classic, 18x38-C

NSN: 8405-00-NIB-0404—L/S, Army White, Classic, 18.5x34/35-C

NSN: 8405-00-NIB-0405—L/S, Army White, Classic, 18.5x36/37-C

NSN: 8405-00-NIB-0406—L/S, Army White, Classic, 18.5x38-C

NSN: 8405-00-NIB-0407—L/S, Army White, Classic, 19x34/35-C

NSN: 8405-00-NIB-0408—L/S, Army White, Classic, 19x36/37-C

NSN: 8405-00-NIB-0409—L/S, Army White, Classic, 19x38-C

NPA: Winston-Salem Industries for the Blind, Winston-Salem, NC

NSN: 8415-00-NIB-0827—Mock Turtleneck, XS

NSN: 8415-00-NIB-0828—Mock Turtleneck, S

NSN: 8415-00-NIB-0829—Mock Turtleneck, M

NSN: 8415-00-NIB-0830—Mock Turtleneck, L

NSN: 8415-00-NIB-0831—Mock Turtleneck, XL

NSN: 8415-00-NIB-0832—Mock Turtleneck, 2X

NSN: 8415-00-NIB-0833—Mock Turtleneck, 3X

NSN: 8415-00-FAB-9788—BDU Coat, Woodland, Type I, XS/XS

NSN: 8415-00-FAB-9789—BDU Coat, Woodland, Type I, XS/S

NSN: 8415-00-FAB-9790—BDU Coat, Woodland, Type I, S/XS

NSN: 8415-00-FAB-9791—BDU Coat, Woodland, Type I, S/S

NSN: 8415-00-FAB-9792—BDU Coat, Woodland, Type I, S/R

NSN: 8415-00-FAB-9793—BDU Coat, Woodland, Type I, S/L

NSN: 8415-00-FAB-9794—BDU Coat, Woodland, Type I, M/XS

NSN: 8415-00-FAB-9795—BDU Coat, Woodland, Type I, M/S

NSN: 8415-00-FAB-9796—BDU Coat, Woodland, Type I, M/R

NSN: 8415-00-FAB-9797—BDU Coat, Woodland, Type I, M/L

NSN: 8415-00-FAB-9798—BDU Coat, Woodland, Type I, L/S

NSN: 8415-00-FAB-9799—BDU Coat, Woodland, Type I, L/L

NSN: 8415-00-FAB-9800—BDU Coat, Woodland, Type I, XL/R

NSN: 8415-00-FAB-9801—BDU Coat, Woodland, Type I, XL/L

NSN: 8415-00-FAB-9802—BDU Coat, Woodland, Type I, S/XXS

NSN: 8415-00-FAB-9803—BDU Coat, Woodland, Type I, M/XXS

NSN: 8415-00-FAB-9804—BDU Coat, Woodland, Type I, L/XS

NSN: 8415-00-FAB-9805—BDU Coat, Woodland, Type I, L/R

NSN: 8415-00-FAB-9806—BDU Coat, Woodland, Type I, XS/R

NSN: 8415-00-FAB-9807—BDU Coat, Woodland, Type I, S/XL

NSN: 8415-00-FAB-9808—BDU Coat, Woodland, Type I, M/XL

NSN: 8415-00-FAB-9809—BDU Coat, Woodland, Type I, L/XL

NSN: 8415-00-FAB-5070—BDU Coat, Woodland, Type I, XS/XXS

NSN: 8415-00-FAB-5071—BDU Coat, Woodland, Type I, XS/L

NSN: 8415-00-FAB-5072—BDU Coat, Woodland, Type I, S/XXXS

NSN: 8415-00-FAB-5073—BDU Coat, Woodland, Type I, L/XXL

NSN: 8415-00-FAB-5075—BDU Coat, Woodland, Type I, XXL/XL

NSN: 8415-00-FAB-5074—BDU Coat, Woodland, Type I, XL/XL

NSN: 8415-00-FAB-9835—BDU Coat, Woodland, Type VI, XS/XS

NSN: 8415-00-FAB-9836—BDU Coat, Woodland, Type VI, XS/R

NSN: 8415-00-FAB-9837—BDU Coat, Woodland, Type VI, S/S

NSN: 8415-00-FAB-9838—BDU Coat, Woodland, Type VI, S/XL

NSN: 8415-00-FAB-9839—BDU Coat, Woodland, Type VI, M/XS

NSN: 8415-00-FAB-9840—BDU Coat, Woodland, Type VI, M/XXS

NSN: 8415-00-FAB-9841—BDU Coat, Woodland, Type VI, S/L

NSN: 8415-00-FAB-9842—BDU Coat, Woodland, Type VI, M/R

NSN: 8415-00-FAB-9843—BDU Coat, Woodland, Type VI, S/R

NSN: 8415-00-FAB-9844—BDU Coat, Woodland, Type VI, XS/S

NSN: 8415-00-FAB-9845—BDU Coat, Woodland, Type VI, M/XL

NSN: 8415-00-FAB-9846—BDU Coat, Woodland, Type VI, M/S

NSN: 8415-00-FAB-9847—BDU Coat, Woodland, Type VI, M/L

NSN: 8415-00-FAB-9848—BDU Coat, Woodland, Type VI, L/R

NSN: 8415-00-FAB-9849—BDU Coat, Woodland, Type VI, L/XL

NSN: 8415-00-FAB-9850—BDU Coat, Woodland, Type VI, XL/L

NSN: 8415-00-FAB-9851—BDU Coat, Woodland, Type VI, L/L

NSN: 8415-00-FAB-9852—BDU Coat, Woodland, Type VI, XL/R

NSN: 8415-00-FAB-9853—BDU Coat, Woodland, Type VI, L/XS

NSN: 8415-00-FAB-9854—BDU Coat, Woodland, Type VI, S/XXS

NSN: 8415-00-FAB-9855—BDU Coat, Woodland, Type VI, S/XS

NSN: 8415-00-FAB-9856—BDU Coat, Woodland, Type VI, L/S

NSN: 8415-00-FAB-5079—BDU Coat, Woodland, Type VI, XS/XXS

NSN: 8415-00-FAB-5078—BDU Coat, Woodland, Type VI, XS/L

NSN: 8415-00-FAB-5080—BDU Coat, Woodland, Type VI, S/XXXS

NSN: 8415-00-FAB-5077—BDU Coat, Woodland, Type VI, L/XXL

NSN: 8415-00-FAB-5076—BDU Coat, Woodland, Type VI, XL/XL

NSN: 8415-00-FAB-5081—BDU Coat, Woodland, Type VI, XXL/XL

NSN: 8415-00-FAB-9813—BDU Coat, Desert, Type VII, XS/XS

NSN: 8415-00-FAB-9814—BDU Coat, Desert, Type VII, XS/S

NSN: 8415-00-FAB-9815—BDU Coat, Desert, Type VII, XS/R

NSN: 8415-00-FAB-9816—BDU Coat, Desert, Type VII, S/XXS

NSN: 8415-00-FAB-9817—BDU Coat, Desert, Type VII, S/XS

NSN: 8415-00-FAB-9818—BDU Coat, Desert, Type VII, S/S

NSN: 8415-00-FAB-9819—BDU Coat, Desert, Type VII, S/R

NSN: 8415-00-FAB-9820—BDU Coat, Desert, Type VII, S/L

NSN: 8415-00-FAB-9821—BDU Coat, Desert, Type VII, S/XL

NSN: 8415-00-FAB-9822—BDU Coat, Desert, Type VII, M/XXS

NSN: 8415-00-FAB-9823—BDU Coat, Desert, Type VII, M/XS

NSN: 8415-00-FAB-9824—BDU Coat, Desert, Type VII, M/S

NSN: 8415-00-FAB-9825—BDU Coat, Desert, Type VII, M/R

NSN: 8415-00-FAB-9826—BDU Coat, Desert, Type VII, M/L

NSN: 8415-00-FAB-9827—BDU Coat, Desert, Type VII, M/XL

NSN: 8415-00-FAB-9828—BDU Coat, Desert, Type VII, L/XS

NSN: 8415-00-FAB-9829—BDU Coat, Desert, Type VII, L/S

NSN: 8415-00-FAB-9830—BDU Coat, Desert, Type VII, L/R

NSN: 8415-00-FAB-9831—BDU Coat, Desert, Type VII, L/L

NSN: 8415-00-FAB-9832—BDU Coat, Desert, Type VII, L/XL

NSN: 8415-00-FAB-9833—BDU Coat, Desert, Type VII, XL/R

NSN: 8415-00-FAB-9834—BDU Coat, Desert, Type VII, XL/L

NSN: 8415-00-FAB-9736—BDU Coat, Desert, Type VII, XS/XXS

NSN: 8415-00-FAB-9737—BDU Coat, Desert, Type VII, L/XXL

NSN: 8415-00-FAB-9738—BDU Coat, Desert, Type VII, XL/XL

NSN: 8415-00-FAB-9739—BDU Coat, Desert, Type VII, XXL/XL

NSN: 8415-00-FAB-5329—BDU Coat, Desert, Type VII, S/XXS

NSN: 8415-00-FAB-9769—BDU Trouser, Woodland, Type I, L/S

NSN: 8415-00-FAB-8253—BDU Trouser, Woodland, Type I, L/R

NSN: 8415-00-FAB-8204—BDU Trouser, Woodland, Type I, XS/XS

NSN: 8415-00-FAB-8299—BDU Trouser, Woodland, Type I, XS/R

NSN: 8415-00-FAB-8300—BDU Trouser, Woodland, Type I, S/XS

NSN: 8415-00-FAB-8205—BDU Trouser, Woodland, Type I, S/S

NSN: 8415-00-FAB-8301—BDU Trouser, Woodland, Type I, S/R

NSN: 8415-00-FAB-8206—BDU Trouser, Woodland, Type I, S/L

NSN: 8415-00-FAB-8302—BDU Trouser, Woodland, Type I, M/XS

NSN: 8415-00-FAB-8207—BDU Trouser, Woodland, Type I, M/S

NSN: 8415-00-FAB-8208—BDU Trouser, Woodland, Type I, M/R

NSN: 8415-00-FAB-8209—BDU Trouser, Woodland, Type I, L/L

NSN: 8415-00-FAB-8303—BDU Trouser, Woodland, Type I, XL/R

NSN: 8415-00-FAB-8304—BDU Trouser, Woodland, Type I, XS/S

NSN: 8415-00-FAB-8210—BDU Trouser, Woodland, Type I, M/L

NSN: 8415-00-FAB-8305—BDU Trouser, Woodland, Type I, XL/S

NSN: 8415-00-FAB-8306—BDU Trouser, Woodland, Type I, XS/L

NSN: 8415-00-FAB-8307—BDU Trouser, Woodland, Type I, S/XL

NSN: 8415-00-FAB-8308—BDU Trouser, Woodland, Type I, M/XL

NSN: 8415-00-FAB-8211—BDU Trouser, Woodland, Type I, L/XL

NSN: 8415-00-FAB-8212—BDU Trouser, Woodland, Type I, XL/L

NSN: 8415-00-FAB-8271—BDU Trouser, Woodland, Type I, M/XXL

NSN: 8415-00-FAB-8272—BDU Trouser, Woodland, Type I, L/XXL

NSN: 8415-00-FAB-8273—BDU Trouser, Woodland, Type I, XXL/XXL

NSN: 8415-00-FAB-8578—BDU Trouser, Woodland, Type VI, XS/XS

NSN: 8415-00-FAB-8577—BDU Trouser, Woodland, Type VI, XS/S

NSN: 8415-00-FAB-8254—BDU Trouser, Woodland, Type VI, XS/L

NSN: 8415-00-FAB-8255—BDU Trouser, Woodland, Type VI, S/XS

NSN: 8415-00-FAB-8247—BDU Trouser, Woodland, Type VI, S/L

NSN: 8415-00-FAB-8256—BDU Trouser, Woodland, Type VI, S/XL

NSN: 8415-00-FAB-8257—BDU Trouser, Woodland, Type VI, S/R

NSN: 8415-00-FAB-8258—BDU Trouser, Woodland, Type VI, M/S

NSN: 8415-00-FAB-8259—BDU Trouser, Woodland, Type VI, M/XS

NSN: 8415-00-FAB-8260—BDU Trouser, Woodland, Type VI, M/L

NSN: 8415-00-FAB-8248—BDU Trouser, Woodland, Type VI, M/XL

NSN: 8415-00-FAB-8249—BDU Trouser, Woodland, Type VI, M/R

NSN: 8415-00-FAB-8261—BDU Trouser, Woodland, Type VI, L/R

NSN: 8415-00-FAB-8250—BDU Trouser, Woodland, Type VI, L/S

NSN: 8415-00-FAB-8262—BDU Trouser, Woodland, Type VI, L/XL

NSN: 8415-00-FAB-8263—BDU Trouser, Woodland, Type VI, XL/S

NSN: 8415-00-FAB-8264—BDU Trouser, Woodland, Type VI, XL/L

NSN: 8415-00-FAB-8265—BDU Trouser, Woodland, Type VI, XL/R

NSN: 8415-00-FAB-8266—BDU Trouser, Woodland, Type VI, XS/R

NSN: 8415-00-FAB-8267—BDU Trouser, Woodland, Type VI, S/S

NSN: 8415-00-FAB-8251—BDU Trouser, Woodland, Type VI, L/L

NSN: 8415-00-FAB-8268—BDU Trouser, Woodland, Type VI, XXL/XXL

NSN: 8415-00-FAB-8269—BDU Trouser, Woodland, Type VI, L/XXL

NSN: 8415-00-FAB-8270—BDU Trouser, Woodland, Type VI, M/XXL

NSN: 8415-00-FAB-8227—BDU Trouser, Desert, Type VII, XS/XS

NSN: 8415-00-FAB-8228—BDU Trouser, Desert, Type VII, XS/S

NSN: 8415-00-FAB-8229—BDU Trouser, Desert, Type VII, XS/R

NSN: 8415-00-FAB-8230—BDU Trouser, Desert, Type VII, XS/L

NSN: 8415-00-FAB-8231—BDU Trouser, Desert, Type VII, S/XS

NSN: 8415-00-FAB-8232—BDU Trouser, Desert, Type VII, S/S

NSN: 8415-00-FAB-8233—BDU Trouser, Desert, Type VII, S/R

NSN: 8415-00-FAB-8234—BDU Trouser, Desert, Type VII, S/L

NSN: 8415-00-FAB-8235—BDU Trouser, Desert, Type VII, S/XL

NSN: 8415-00-FAB-8236—BDU Trouser, Desert, Type VII, M/XS

NSN: 8415-00-FAB-8237—BDU Trouser, Desert, Type VII, M/S

NSN: 8415-00-FAB-8238—BDU Trouser, Desert, Type VII, M/R

NSN: 8415-00-FAB-8239—BDU Trouser, Desert, Type VII, M/L

NSN: 8415-00-FAB-8240—BDU Trouser, Desert, Type VII, M/XL

NSN: 8415-00-FAB-8241—BDU Trouser, Desert, Type VII, L/S

NSN: 8415-00-FAB-8242—BDU Trouser, Desert, Type VII, L/R

NSN: 8415-00-FAB-8243—BDU Trouser, Desert, Type VII, L/L

NSN: 8415-00-FAB-8244—BDU Trouser, Desert, Type VII, L/XL

NSN: 8415-00-FAB-8313—BDU Trouser, Desert, Type VII, XL/S

NSN: 8415-00-FAB-8245—BDU Trouser, Desert, Type VII, XL/R

NSN: 8415-00-FAB-8246—BDU Trouser, Desert, Type VII, XL/L

NSN: 8415-00-FAB-0101—BDU Trouser, Desert, Type VII, M/2XL

NSN: 8415-00-FAB-0113—BDU Trouser, Desert, Type VII, L/2XL

NSN: 8415-00-FAB-0105—BDU Trouser, Desert, Type VII, 2XL/2XL

NSN: 8415-00-FAB-5722—ACU Coat, XS-XS

NSN: 8415-00-FAB-5723—ACU Coat, XS-S

NSN: 8415-00-FAB-5724—ACU Coat, XS-R

NSN: 8415-00-FAB-5725—ACU Coat, S-XXS

NSN: 8415-00-FAB-5726—ACU Coat, S-XS

NSN: 8415-00-FAB-5728—ACU Coat, S-R

NSN: 8415-00-FAB-5727—ACU Coat, S-S

NSN: 8415-00-FAB-5729—ACU Coat, S-L

NSN: 8415-00-FAB-5731—ACU Coat, M-XXS

NSN: 8415-00-FAB-5730—ACU Coat, S-XL

NSN: 8415-00-FAB-5732—ACU Coat, M-XS

NSN: 8415-00-FAB-5733—ACU Coat, M-S

NSN: 8415-00-FAB-5734—ACU Coat, M-R

NSN: 8415-00-FAB-5735—ACU Coat, M-L

NSN: 8415-00-FAB-5736—ACU Coat, M-XL

NSN: 8415-00-FAB-5737—ACU Coat, L-XS

NSN: 8415-00-FAB-5738—ACU Coat, L-S

NSN: 8415-00-FAB-5739—ACU Coat, L-R

NSN: 8415-00-FAB-5740—ACU Coat, L-L

NSN: 8415-00-FAB-5741—ACU Coat, L-XL

NSN: 8415-00-FAB-5745—ACU Coat, XL-XL

NSN: 8415-00-FAB-5744—ACU Coat, XL-L

NSN: 8415-00-FAB-5742—ACU Coat, L-XXL

NSN: 8415-00-FAB-5746—ACU Coat, XXL-XL

NSN: 8415-00-FAB-5743—ACU Coat, XL-R

NSN: 8415-00-FAB-0521—ACU Coat, XS-L

NSN: 8415-00-FAB-0523—ACU Coat, XS-XL

NSN: 8415-00-FAB-1733—ACU Coat, XL-S

NSN: 8415-00-FAB-0531—ACU Coat, XXL-R

NSN: 8415-00-FAB-1734—ACU Coat, XXL-L

NSN: 8415-00-FAB-1730—ACU Coat, XS-XXS

NSN: 8415-00-FAB-1731—ACU Coat, M-XXL

NSN: 8415-00-FAB-0525—ACU Coat, L-XXS

NSN: 8415-00-FAB-0529—ACU Coat, XL-XXS

NSN: 8415-00-FAB-1732—ACU Coat, XL-XS

NSN: 8415-00-FAB-0542—ACU Coat, XL-XXL

NSN: 8415-00-FAB-0541—ACU Coat, XXL-XXL

NSN: 8415-00-FAB-5747—ACU Trouser, XS-XS

NSN: 8415-00-FAB-6701—ACU Trouser, XS-XXL

NSN: 8415-00-FAB-5748—ACU Trouser, XS-S

NSN: 8415-00-FAB-6700—ACU Trouser, XS-XL

NSN: 8415-00-FAB-5749—ACU Trouser, XS-R

NSN: 8415-00-FAB-5752—ACU Trouser, S-S

NSN: 8415-00-FAB-5751—ACU Trouser, S-XS

NSN: 8415-00-FAB-5754—ACU Trouser, S-L

NSN: 8415-00-FAB-5755—ACU Trouser, S-XL

NSN: 8415-00-FAB-5756—ACU Trouser, M-XS

NSN: 8415-00-FAB-5753—ACU Trouser, S-R

NSN: 8415-00-FAB-5757—ACU Trouser, M-S

NSN: 8415-00-FAB-5750—ACU Trouser, XS-L

NSN: 8415-00-FAB-5758—ACU Trouser, M-R

NSN: 8415-00-FAB-5759—ACU Trouser, M-L

NSN: 8415-00-FAB-5760—ACU Trouser, M-XL

NSN: 8415-00-FAB-5761—ACU Trouser, L-S

NSN: 8415-00-FAB-5763—ACU Trouser, L-L

NSN: 8415-00-FAB-5762—ACU Trouser, L-R

NSN: 8415-00-FAB-5764—ACU Trouser, L-XL

NSN: 8415-00-FAB-5765—ACU Trouser, XL-S

NSN: 8415-00-FAB-5766—ACU Trouser, XL-R

NSN: 8415-00-FAB-5767—ACU Trouser, XL-L

NSN: 8415-00-FAB-5768—ACU Trouser, XXL-R

NSN: 8415-00-FAB-4667—ACU Trouser, S-XXL

NSN: 8415-00-FAB-4674—ACU Trouser, M-XXL

NSN: 8415-00-FAB-8074—ACU Trouser, L-XS

NSN: 8415-00-FAB-4673—ACU Trouser, L-XXL

NSN: 8415-00-FAB-4672—ACU Trouser, XL-XS

NSN: 8415-00-FAB-4671—ACU Trouser, XL-XL

NSN: 8415-00-FAB-4669—ACU Trouser, XL-XXL

NSN: 8415-00-FAB-4668—ACU Trouser, XXL-XS

NSN: 8415-00-FAB-8075—ACU Trouser, XXL-S

NSN: 8415-00-FAB-8080—ACU Trouser, XXL-L

NSN: 8415-00-FAB-4650—ACU Trouser, XXL-XL

NSN: 8415-00-FAB-4649—ACU Trouser, XXL-XXL

NSN: 8405-00-FAB-4220—HDU Trouser, 28X32

NSN: 8405-00-FAB-4221—HDU Trouser, 30X28

NSN: 8405-00-FAB-4222—HDU Trouser, 30X30

NSN: 8405-00-FAB-4223—HDU Trouser, 30X32

NSN: 8405-00-FAB-4224—HDU Trouser, 30X34

NSN: 8405-00-FAB-4225—HDU Trouser, 30X36

NSN: 8405-00-FAB-4226—HDU Trouser, 32X28

NSN: 8405-00-FAB-4227—HDU Trouser, 32X30

NSN: 8405-00-FAB-4228—HDU Trouser, 32X32

NSN: 8405-00-FAB-4229—HDU Trouser, 32X34

NSN: 8405-00-FAB-4230—HDU Trouser, 32X36

NSN: 8405-00-FAB-4231—HDU Trouser, 34X28

NSN: 8405-00-FAB-4232—HDU Trouser, 34X30

NSN: 8405-00-FAB-4233—HDU Trouser, 34X32

NSN: 8405-00-FAB-4234—HDU Trouser, 34X34

NSN: 8405-00-FAB-4235—HDU Trouser, 34X36

NSN: 8405-00-FAB-4236—HDU Trouser, 36X28

NSN: 8405-00-FAB-4237—HDU Trouser, 36X30

NSN: 8405-00-FAB-4238—HDU Trouser, 36X32

NSN: 8405-00-FAB-4239—HDU Trouser, 36X34

NSN: 8405-00-FAB-4240—HDU Trouser, 36X36

NSN: 8405-00-FAB-4241—HDU Trouser, 38X28

NSN: 8405-00-FAB-4242—HDU Trouser, 38X30

NSN: 8405-00-FAB-4243—HDU Trouser, 38X32

NSN: 8405-00-FAB-4244—HDU Trouser, 38X34

NSN: 8405-00-FAB-4245—HDU Trouser, 38X36

NSN: 8405-00-FAB-4246—HDU Trouser, 40X28

NSN: 8405-00-FAB-4247—HDU Trouser, 40X30

NSN: 8405-00-FAB-4248—HDU Trouser, 40X32

NSN: 8405-00-FAB-4249—HDU Trouser, 40X34

NSN: 8405-00-FAB-4250—HDU Trouser, 40X36

NSN: 8405-00-FAB-4251—HDU Trouser, 42X28

NSN: 8405-00-FAB-4252—HDU Trouser, 42X30

NSN: 8405-00-FAB-4253—HDU Trouser, 42X32

NSN: 8405-00-FAB-4254—HDU Trouser, 42X34

NSN: 8405-00-FAB-4255—HDU Trouser, 42X36

NSN: 8405-00-FAB-4256—HDU Trouser, 44X28

NSN: 8405-00-FAB-4257—HDU Trouser, 44X30

NSN: 8405-00-FAB-4258—HDU Trouser, 44X32

NSN: 8405-00-FAB-4259—HDU Trouser, 44X34

NSN: 8405-00-FAB-4260—HDU Trouser, 44X36

NSN: 8405-00-FAB-4261—HDU Trouser, 46X28

NSN: 8405-00-FAB-4262—HDU Trouser, 46X30

NSN: 8405-00-FAB-4263—HDU Trouser, 46X32

NSN: 8405-00-FAB-4264—HDU Trouser, 46X34

NSN: 8405-00-FAB-4265—HDU Trouser, 46X36

NSN: 8470-00-FAB-7241—IOTV Front, X-SM

NSN: 8470-00-FAB-7242—IOTV Front, SM

NSN: 8470-00-FAB-7243—IOTV Front, MD-REG

NSN: 8470-00-FAB-7244—IOTV Front, MD-LNG

NSN: 8470-00-FAB-7262—IOTV Front, LG-REG

NSN: 8470-00-FAB-7245—IOTV Front, LG-LNG

NSN: 8470-00-FAB-7246—IOTV Front, XL-REG

NSN: 8470-00-FAB-7247—IOTV Front, XL-LNG

NSN: 8470-00-FAB-7248—IOTV Front, 2XL

NSN: 8470-00-FAB-7249—IOTV Front, 3XL

NSN: 8470-00-FAB-7250—IOTV Front, 4XL

NSN: 8470-00-FAB-7251—IOTV Back, X-SM

NSN: 8470-00-FAB-7252—IOTV Back, SM

NSN: 8470-00-FAB-7253—IOTV Back, MD-REG

NSN: 8470-00-FAB-7254—IOTV Back, MD-LNG

NSN: 8470-00-FAB-7255—IOTV Back, LG-REG

NSN: 8470-00-FAB-7256—IOTV Back, LG-LNG

NSN: 8470-00-FAB-7257—IOTV Back, XL-REG

NSN: 8470-00-FAB-7258—IOTV Back, XL-LNG

NSN: 8470-00-FAB-7259—IOTV Back, 2XL

NSN: 8470-00-FAB-7260—IOTV Back, 3XL

NSN: 8470-00-FAB-7261—IOTV Back, 4XL

NSN: 8470-00-FAB-2391—OTV Vest, Desert, Small

NSN: 8470-00-FAB-2392—OTV Vest, Desert, Medium

NSN: 8470-00-FAB-2393—OTV Vest, Desert, Large

NSN: 8470-00-FAB-2394—OTV Vest, Desert, X-Large

NSN: 8470-00-FAB-0756—OTV Vest, Desert, 2X-Large

NSN: 8470-00-FAB-0881—OTV Vest, Desert, 3X-Large

NSN: 8470-00-FAB-2283—OTV Throat, Desert

NSN: 8470-00-FAB-2279—OTV Groin, Desert, Small-Medium

NSN: 8470-00-FAB-2237—OTV Groin, Desert, Large-3XLarge

NSN: 8470-00-FAB-5670—OTV Vest, Woodland, X-Small

NSN: 8470-00-FAB-5671—OTV Vest, Woodland, Small

NSN: 8470-00-FAB-5669—OTV Vest, Woodland, Medium

NSN: 8470-00-FAB-5668—OTV Vest, Woodland, Large

NSN: 8470-00-FAB-5667—OTV Vest, Woodland, X-Large

NSN: 8470-00-FAB-4440—OTV Vest, Woodland, 2X-Large

NSN: 8470-00-FAB-4441—OTV Vest, Woodland, 3X-Large

NSN: 8470-00-FAB-4442—OTV Vest, Woodland, 4X-Large

NSN: 8470-00-FAB-0882—OTV Throat, Woodland

NSN: 8470-00-FAB-0883—OTV Groin, Woodland, XSmall-Medium

NSN: 8470-00-FAB-0884—OTV Groin, Woodland, Large-4XLarge

NSN: 8470-00-FAB-3566—OTV Vest, Pantone, X-Small

NSN: 8470-00-FAB-3572—OTV Vest, Pantone, Small

NSN: 8470-00-FAB-3573—OTV Vest, Pantone, Medium

NSN: 8470-00-FAB-3571—OTV Vest, Pantone, Large

NSN: 8470-00-FAB-3570—OTV Vest, Pantone, X-Large

NSN: 8470-00-FAB-3569—OTV Vest, Pantone, 2X-Large

NSN: 8470-00-FAB-3568—OTV Vest, Pantone, 3X-Large

NSN: 8470-00-FAB-3567—OTV Vest, Pantone, 4X-Large

NSN: 8470-00-FAB-3624—OTV Throat, Pantone

NSN: 8470-00-FAB-3625—OTV Groin, Pantone, XSmall-Medium

NSN: 8470-00-FAB-3626—OTV Groin, Pantone, Large-4XLarge

NSN: 8470-00-FAB-2390—OTV Vest, Desert, XSmall

NSN: 8470-00-NIB-0031—Kit, Pre-Cut, Fabric, OTV Vest, Desert, 4X

NSN: 8415-00-FAB-4705—Army IPFU Jacket, XS-S

NSN: 8415-00-FAB-4714—Army IPFU Jacket, XS-R

NSN: 8415-00-FAB-4712—Army IPFU Jacket, XS-L

NSN: 8415-00-FAB-4706—Army IPFU Jacket, S-S

NSN: 8415-00-FAB-4715—Army IPFU Jacket, S-R

NSN: 8415-00-FAB-4713—Army IPFU Jacket, S-L

NSN: 8415-00-FAB-4707—Army IPFU Jacket, M-S

NSN: 8415-00-FAB-4716—Army IPFU Jacket, M-R

NSN: 8415-00-FAB-4721—Army IPFU Jacket, M-L

NSN: 8415-00-FAB-4708—Army IPFU Jacket, L-S

NSN: 8415-00-FAB-4717—Army IPFU Jacket, L-R

NSN: 8415-00-FAB-4722—Army IPFU Jacket, L-L

NSN: 8415-00-FAB-4709—Army IPFU Jacket, XL-S

NSN: 8415-00-FAB-4718—Army IPFU Jacket, XL-R

NSN: 8415-00-FAB-4723—Army IPFU Jacket, XL-L

NSN: 8415-00-FAB-4710—Army IPFU Jacket, 2XL-S

NSN: 8415-00-FAB-4719—Army IPFU Jacket, 2XL-R

NSN: 8415-00-FAB-4724—Army IPFU Jacket, 2XL-L

NSN: 8415-00-FAB-4711—Army IPFU Jacket, 3XL-S

NSN: 8415-00-FAB-4720—Army IPFU Jacket, 3XL-R

NSN: 8415-00-FAB-4725—Army IPFU Jacket, 3XL-L

NSN: 8415-00-NIB-0858—Army IPFU Jacket (w/Digital Reflective), XS-S

NSN: 8415-00-NIB-0859—Army IPFU Jacket (w/Digital Reflective), XS-R

NSN: 8415-00-NIB-0860—Army IPFU Jacket (w/Digital Reflective), XS-L

NSN: 8415-00-NIB-0861—Army IPFU Jacket (w/Digital Reflective), S-S

NSN: 8415-00-NIB-0862—Army IPFU Jacket (w/Digital Reflective), S-R

NSN: 8415-00-NIB-0863—Army IPFU Jacket (w/Digital Reflective), S-L

NSN: 8415-00-NIB-0864—Army IPFU Jacket (w/Digital Reflective), M-S

NSN: 8415-00-NIB-0865—Army IPFU Jacket (w/Digital Reflective), M-R

NSN: 8415-00-NIB-0866—Army IPFU Jacket (w/Digital Reflective), M-L

NSN: 8415-00-NIB-0867—Army IPFU Jacket (w/Digital Reflective), L-S

NSN: 8415-00-NIB-0868—Army IPFU Jacket (w/Digital Reflective), L-R

NSN: 8415-00-NIB-0869—Army IPFU Jacket (w/Digital Reflective), L-L

NSN: 8415-00-NIB-0870—Army IPFU Jacket (w/Digital Reflective), XL-S

NSN: 8415-00-NIB-0871—Army IPFU Jacket (w/Digital Reflective), XL-R

NSN: 8415-00-NIB-0872—Army IPFU Jacket (w/Digital Reflective), XL-L

NSN: 8415-00-NIB-0873—Army IPFU Jacket (w/Digital Reflective), 2XL-S

NSN: 8415-00-NIB-0874—Army IPFU Jacket (w/Digital Reflective), 2XL-R

NSN: 8415-00-NIB-0875—Army IPFU Jacket (w/Digital Reflective), 2XL-L

NSN: 8415-00-NIB-0876—Army IPFU Jacket (w/Digital Reflective), 3XL-S

NSN: 8415-00-NIB-0877—Army IPFU Jacket (w/Digital Reflective), 3XL-R

NSN: 8415-00-NIB-0878—Army IPFU Jacket (w/Digital Reflective), 3XL-L

NSN: 8415-00-FAB-5407—Army IPFU Pants, L-R

NSN: 8415-00-FAB-5416—Army IPFU Pants, XL-R

NSN: 8415-00-FAB-5401—Army IPFU Pants, 2XL-R

NSN: 8415-00-FAB-5404—Army IPFU Pants, 3XL-R

NSN: 8415-00-FAB-5412—Army IPFU Pants, S-L

NSN: 8415-00-FAB-5409—Army IPFU Pants, M-L

NSN: 8415-00-FAB-5406—Army IPFU Pants, L-L

NSN: 8415-00-FAB-5415—Army IPFU Pants, XL-L

NSN: 8415-00-FAB-5400—Army IPFU Pants, 2XL-L

NSN: 8415-00-FAB-5403—Army IPFU Pants, 3XL-L

NSN: 8415-00-FAB-5420—Army IPFU Pants, XS-S

NSN: 8415-00-FAB-5414—Army IPFU Pants, S-S

NSN: 8415-00-FAB-5411—Army IPFU Pants, M-S

NSN: 8415-00-FAB-5408—Army IPFU Pants, L-S

NSN: 8415-00-FAB-5417—Army IPFU Pants, XL-S

NSN: 8415-00-FAB-5402—Army IPFU Pants, 2XL-S

NSN: 8415-00-FAB-5405—Army IPFU Pants, 3XL-S

NSN: 8415-00-FAB-5419—Army IPFU Pants, XS-R

NSN: 8415-00-FAB-5413—Army IPFU Pants, SS-R

NSN: 8415-00-FAB-5410—Army IPFU Pants, M-R

NPA: Blind Industries & Services of Maryland, Baltimore, MD

Contracting Activity: Dept of Justice, Federal Prison System, Unicor, Washington, DC

COVERAGE: C-List for 100% of the requirements of UNICOR as aggregated by Federal Prison Industries.

NSN: 7195-00-NIB-0018—Foot Rest, Ergonomic Adjustable

NSN: 7195-00-NIB-0019—Foot Rest, Ergonomic Adjustable

NSN: 7110-00-NIB-0063—Monitor Arm, Column Mount, Ergonomic

COVERAGE: A-List for the Total Government Requirement as aggregated by the General Services Administration.

NSN: 7110-00-NIB-0064—Double Monitor Arm, Column Mount, Ergonomic

COVERAGE: B-List for the Broad Government Requirement as aggregated by the General Services Administration.

NPA: The Chicago Lighthouse for People Who Are Blind or Visually Impaired, Chicago, IL

Contracting Activity: Federal Acquisition Service, GSA/FSS Household and Industrial Furniture, Arlington, VA

NSN: 7530-00-NIB-0921—Thermal Paper, Calculator and Printing Machine

COVERAGE: A-List for the Total Government Requirement as aggregated by the General Services Administration.

NSN: 7530-00-NIB-0922—Thermal Paper Rolls, Cash Register/Point of Sale

NSN: 7530-00-NIB-0923—Thermal Paper Roll

COVERAGE: B-List for the Broad Government Requirement as aggregated by the General Services Administration.

NPA: Cincinnati Association for the Blind, Cincinnati, OH

Contracting Activity: Federal Acquisition Service, GSA/FSS OFC SUP CTR—Paper Products, New York, NY

NSN: 4510-01-426-4187—SKILCRAFT-Zep Meter Mist 3000 Plus Dispenser

NPA: Envision, Inc., Wichita, KS

Contracting Activity: Federal Acquisition Service, GSA/FAS Southwest Supply Center (QSDAC), Fort Worth, TX

COVERAGE: A-List for the Total Government Requirement as aggregated by the General Services Administration.

SKILCRAFT-Zep Meter Mist Refill

NSN: 6840-01-368-4785

NSN: 6840-01-368-4787

NSN: 6840-01-368-4789

NSN: 6840-01-425-8232

NSN: 6840-01-429-5864

NPA: Lighthouse for the Blind, St. Louis, MO

Contracting Activity: Federal Acquisition Service, GSA/FAS Southwest Supply Center (QSDAC), Fort Worth, TX

COVERAGE: A-List for the Total Government Requirement as aggregated by the General Services Administration.

NSN: 9905-00-NIB-0046—Wet Floor Sign

NPA: New York City Industries for the Blind, Inc., Brooklyn, NY

Contracting Activity: Federal Acquisition Service, GSA/FAS Southwest Supply Center (QSDAC), Fort Worth, TX

COVERAGE: A-List for the Total Government Requirement as aggregated by the General Services Administration.

Services

Service Type/Location: Base Operations Support Service, Joint Base Andrews Naval Air Facility, Washington, DC

NPA: Davis Memorial Goodwill Industries, Washington, DC

Contracting Activity: Joint Base Andrews Naval Air Facility, 316th Contracting Squadron, Washington, DC

Service Type/Location: Custodial Service, Hickam Air Force Base, Hickam Air Force Base, HI

NPA: Opportunities for the Retarded, Inc., Wahiawa, HI

Contracting Activity: Dept of the Air Force, FA5215 15th Contracting Squadron/LGC, Hickam Air Force Base, HI

Service Type/Location: Janitorial Service, Rescue 21 Project Residence Office (PRO), Douglas, AK

NPA: REACH, Inc., Juneau, AK

Contracting Activity: Dept of Homeland Security, U.S. Coast Guard, Washington, DC

Service Type/Location: Laundry Service, USDA National Centers for Animal Health, 1920 Dayton Avenue, Ames, IA

NPA: Genesis Development, Jefferson, IA

Contracting Agency: U.S. Dept. of Agriculture, Animal and Plant Health Inspection Service, Minneapolis, MN

Service Type/Location: Medical Transcription Service, VA VISN 20 Portland OR VA Medical Center (offsite location: 3602 West Dallas, Houston, TX)

NPA: Lighthouse for the Blind of Houston, Houston, TX

Contracting Activity: Department of Veterans Affairs, VA Medical Center, Boise, ID

Service Type/Location: Custodial Service, Bureau of Land Management, 1046 Gunston Road, Lorton, VA

NPA: MVLE, Inc., Springfield, VA

Contracting Activity: Dept of the Interior, Bureau of Land Management, ES-EASTERN States office, Springfield, VA

Service Type/Location: Custodial Service, Marine Corps Air Station Cherry Point, NC

NPA: Coastal Enterprises of Jacksonville, Inc., Jacksonville, NC

Contracting Activity: Dept of the Navy, Naval FAC Engineering CMD MID LANT, Norfolk, VA

Service Type/Location: Grounds Maintenance, 130th Airlift Squadron, 1679 Coonskin Dr Unit #36, Charleston, WV

NPA: Goodwill Industries of Kanawha Valley, Inc., Charleston, WV

Contracting Activity: Dept of the Army, XRAW8BS WV USPF0 SPT SEC, Buckhannon, WV

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish a product and a service to the Government.

3. There are no known regulatory alternatives which would accomplish the objectives of the Javits-Wagner-O'Day Act (41 U.S.C. 46-48c) in connection with a product and a service proposed for deletion from the Procurement List.

End of Certification

The following product and service are proposed for deletion from the Procurement List:

Product

Paper Holder & Micro Note Holder

NSN: 7510-01-484-0011

NPA: The Lighthouse for the Blind, Inc. (Seattle Lighthouse), Seattle, WA

Contracting Activity: Federal Acquisition Service, GSA/FSS OFC SUP CTR-Paper Products, New York, NY

Service

Service Type/Location: Facilities Maintenance, NASA Dryden Flight Research Center, Edwards, CA

NPA: PRIDE Industries, Roseville, CA

Contracting Activity: National Aeronautics and Space Administration, NASA Headquarters, Washington, DC

Patricia Briscoe,
Deputy Director, Business Operations.

[FR Doc. 2010-15489 Filed 6-24-10; 8:45 am]

BILLING CODE 6353-01-P